FEDERAL COMMUNICATIONS COMMISSION

Sunshine Act Meeting

February 5, 2004.

The Federal Communications Commission will hold an Open Meeting on the subjects listed below on Thursday, February 12, 2004, which is scheduled to commence at 9:30 a.m. in Room TW-C305, at 445 12th Street, SW., Washington, DC.

Iten no. | Bureau | Subject
1 | Wireline Competition | Title: Petition for Declaratory Ruling that Pulver.com's Free World Dialup is Neither Telecommunications Nor a Telecommunications Service (WC Docket No. 03-45).
|  | Summary: The Commission will consider a Memorandum Opinion and Order concerning Pulver.com's petition for declaratory ruling regarding the classification of its Free World Dialup service.
2 | Wireline Competition | Title: IP-Enabled Services.
|  | Summary: The Commission will consider a Notice of Proposed Rulemaking concerning issues relating to services and applications making use of the Internet Protocol, including but not limited to “voice over Internet Protocol.”
3 | Office of Engineering and Technology | Title: Carrier Current Systems, including Broadband over Power Line Systems (ET Docket No. 03-104); and Amendment of Part 15 regarding new requirements and measurement guidelines for Access Broadband over Power Line Systems.
|  | Summary: The Commission will consider a Notice of Proposed Rulemaking concerning changes to the rules applicable to Access Broadband over Power Line systems.
4 | Wireline Competition | Title: Multi-Association Group (MAG) Plan for Regulation of Interstate Services of Non-Price Cap Incumbent Local Exchange Carriers and Interexchange Carriers (CC Docket No. 00-256); and Federal-State Joint Board on Universal Service (CC Docket No. 96-45).
|  | Summary: The Commission will consider a Report and Order and Second Further Notice of Proposed Rulemaking concerning several interstate access charge and universal service reforms affecting rate-of-return local exchange carriers, on which the Commission sought comment in a previous Notice of Proposed Rulemaking.
5 | Office of Engineering and Technology | Title: New Part 4 of the Commission's Rules Concerning Disruptions to Communications.
|  | Summary: The Commission will consider a Notice of Proposed Rulemaking to amend its service disruption reporting requirements.

Additional information concerning this meeting may be obtained from Audrey Spivack or David Fiske, Office of Media Relations, (202) 418-0500; TTY 1-888-835-5322.

Audio/Video coverage of the meeting will be broadcast live over the Internet from the FCC's Audio/Video Events Web page at www.fcc.gov/realaudio.

For a fee this meeting can be viewed live over George Mason University's Capitol Connection. The Capitol Connection also will carry the meeting live via the Internet. To purchase these services call (703) 993-3100 or go to www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 04-3458 Filed 2-12-04; 1:38 pm]

BILLING CODE 6712-01-P